DEPARTMENT OF THE INTERIOR

Bureau of Land Management

[LLCO956000 L14400000.BJ0000 21X]

Notice of Filing of Plats of Survey, Colorado

AGENCY: Bureau of Land Management, Interior.

ACTION: Notice of official filing.

SUMMARY: The plats of survey of the following described lands are scheduled to be officially filed in the Bureau of Land Management (BLM), Colorado State Office, Lakewood, Colorado, 30 calendar days from the date of this publication. The surveys, which were executed at the request of the U.S. Forest Service and the BLM, are necessary for the management of these lands.

DATES: Unless there are protests of this action, the plats described in this notice will be filed on July 26, 2021.

ADDRESSES: You may submit written protests to the BLM Colorado State Office, Cadastral Survey, 2850 Youngfield Street, Lakewood, CO 80215-7210.

FOR FURTHER INFORMATION CONTACT: Janet Wilkins, Chief Cadastral Surveyor for Colorado, telephone: (303) 239-3818; email: j1wilkin@blm.gov. Persons who use a telecommunications device for the deaf may call the Federal Relay Service at 1-800-877-8339 to contact Ms. Wilkins during normal business hours. The Service is available 24 hours a day, 7 days a week, to leave a message or question. You will receive a reply during normal business hours.

SUPPLEMENTARY INFORMATION: The plat, in three sheets, incorporating the field notes of the dependent resurvey and subdivision of section 16 in Township 48 North, Range 8 East, New Mexico Principal Meridian, Colorado, was accepted on February 25, 2021.

The plat, in three sheets, incorporating the field notes of the dependent resurvey and subdivision of section 22 in Township 8 South, Range 71 West, Sixth Principal Meridian, Colorado, was accepted on March 16, 2021.

The plat, in two sheets, incorporating the field notes of the dependent resurvey in Township 13 South, Range 86 West, Sixth Principal Meridian, Colorado, was accepted on March 24, 2021.

The plat incorporating the field notes of the remonumentation of certain corners in Township 8 South, Range 71 West, Sixth Principal Meridian, Colorado, was accepted on March 31, 2021.

The plat, in two sheets, incorporating the field notes of the dependent resurvey and subdivision of section 22 in Township 51 North, Range 8 East, New Mexico Principal Meridian, Colorado, was accepted on May 3, 2021.

The plat, in three sheets, incorporating the field notes of the remonumentation of certain corners in Township 49 North, Range 9 East, New Mexico Principal Meridian, Colorado, was accepted on May 20, 2021.

A person or party who wishes to protest any of the above surveys must file a written notice of protest within 30 calendar days from the date of this publication at the address listed in the ADDRESSES section of this notice. A statement of reasons for the protest may be filed with the notice of protest and must be filed within 30 calendar days after the protest is filed. If a protest against the survey is received prior to the date of official filing, the filing will be stayed pending consideration of the protest. A plat will not be officially filed until the day after all protests have been dismissed or otherwise resolved.

Before including your address, phone number, email address, or other personal identifying information in your protest, please be aware that your entire protest, including your personal identifying information, may be made publicly available at any time. While you can ask us in your comment to withhold your personal identifying information from public review, we cannot guarantee that we will be able to do so.

(Authority: 43 U.S.C. Chap. 3)

Janet Wilkins,
Chief Cadastral Surveyor.

[FR Doc. 2021-13313 Filed 6-23-21; 8:45 am]

BILLING CODE 4310-JB-P